DEPARTMENT OF THE INTERIOR

Fish and Wildlife Service

Notice of Availability of the Sacramento River National Wildlife Refuge Draft Comprehensive Conservation Plan and Environmental Assessment for Review and Comment, and Notice of Public Meetings

AGENCY: Fish and Wildlife Service, Department of the Interior.

ACTION: Notice of availability and notice of public meetings.

SUMMARY: The U.S. Fish and Wildlife Service (Service) announces that the Sacramento River National Wildlife Refuge (Refuge) Draft Comprehensive Conservation Plan and Environmental Assessment (Draft CCP/EA) is available for review and comment. The Draft CCP/EA was prepared pursuant to the National Wildlife Refuge System Administration Act of 1966, as amended by the National Wildlife Refuge System Improvement Act of 1997 (16 U.S.C. dd et seq.) (Improvement Act), and the National Environmental Policy Act of 1969, as amended, and describes how the Service proposes to manage this Refuge over the next 15 years. Refuge management changes proposed in the draft CCP include: Restoration of additional acres of historic riparian habitat; increasing public use opportunities including wildlife observation, photography, interpretation, and environmental education; opening additional areas of the Refuge to fishing; and opening the Refuge to waterfowl, deer, and upland gamebird hunting. Also available for review with the Draft CCP/EA, are the draft compatibility determinations for hunting; fishing; environmental education; wildlife observation, photography, and interpretation; research; camping and boating; farming; and grazing.

DATES: Please provide written comments to the address below by August 20, 2004. Public meetings will be held on:

1. July 20, 2004, 6 p.m. to 8 p.m., Willows, CA.

2. July 21, 2004, 6 p.m. to 8 p.m., Chico, CA.

3. July 27, 2004, 6 p.m. to 8 p.m., Red Bluff, CA.

4. July 29, 2004, 6 p.m. to 8 p.m., Colusa, CA.

ADDRESSES: Comments on the Draft CCP/EA should be addressed to Jackie Ferrier, Refuge Planner, Sacramento National Wildlife Refuge Complex, 752 County Road 99 W, Willows, California, 95988. Comments may also be submitted at the public meetings or via electronic mail to Sacramentovalleyrefuges@fws.gov.

The public meeting locations are:

1. Willows Memorial Hall, 525 W. Sycamore Street, Willows, CA.

2. Masonic Family Center, 1110 W. East Avenue, Chico, CA.

3. Community Center—Rose Room, 1500 S. Jackson Street, Red Bluff, CA

4. Colusa Industrial Properties—Conference Room, 50 Sunrise Boulevard, Colusa, CA.

FOR FURTHER INFORMATION CONTACT: Project Leader, Sacramento National Wildlife Refuge Complex, 752 County Road 99 W, Willows, California 95988, (530) 934-2801, or Jackie Ferrier, Refuge Planner, Sacramento National Wildlife Refuge Complex, 752 County Road 99 W, Willows, California 95988, (530) 934-2801.

SUPPLEMENTARY INFORMATION: Copies of the Draft CCP/EA may be obtained by writing to Jackie Ferrier, Refuge Planner, Sacramento National Wildlife Refuge Complex, 752 County Road 99 W, Willows, California 95988. Copies of the Draft CCP/EA may be viewed at this address and are also available for viewing and downloading online at http://sacramentovalleyrefuges.fws.gov or http://pacific.fws.gov/planning. Printed documents will be available for review at the following libraries: Bayliss Library in Glenn; Butte County Library in Chico; Butte County Library in Oroville; Colusa County Library in Colusa; Colusa County Library in Princeton; Corning Library in Corning; Orland City Library in Orland; Tehama County Library in Los Molinos; Tehama County Library in Red Bluff; and Willows Public Library in Willows.

Background

The Refuge was established in 1989 by the authority provided under the Endangered Species Act of 1973, the Fish and Wildlife Act of 1956, and the Emergency Wetlands Resources Act of 1986, using funds made available through the Land and Water Conservation Fund Act of 1965. Sacramento River Refuge is part of the Sacramento National Wildlife Refuge Complex located in the Sacramento Valley of north-central California. The Refuge is located along both banks of the Sacramento River between Red Bluff and Princeton, California, in Glenn, Butte, and Tehama Counties. The Refuge is managed to maintain, enhance and restore habitats for threatened and endangered species, migratory birds, anadromous fish and native fish, wildlife, and plants.

Proposed Action

The Proposed Action is to adopt and implement a Comprehensive Conservation Plan for the Sacramento River Refuge that best achieves the Refuge's purposes; contributes to the National Wildlife Refuge System mission; addresses significant issues and relevant mandates; and is consistent with sound fish and wildlife management. A CCP is required by the Improvement Act of 1997. The purpose in developing CCPs is to provide refuge managers with a 15-year strategy for achieving refuge purposes and contributing to the mission of the National Wildlife Refuge System. The CCP must be consistent with sound principles of fish and wildlife science and conservation; and legal mandates and Service policies. In addition to outlining refuge management direction for conserving wildlife and their habitats, CCPs identify wildlife-dependent recreational opportunities available to the public such as hunting, fishing, wildlife observation and photography, and environmental education and interpretation.

Alternatives

The Draft CCP/EA identifies and evaluates three alternatives for managing Sacramento River National Wildlife Refuge for the next 15 years. Each alternative describes a combination of habitat and public use management prescriptions designed to achieve Refuge purposes. Of the alternatives described below, the Service believes that Alternative B would best achieve these elements, and is, therefore, identified as the Preferred Alternative.

Alternative A, the no action alternative, assumes no change from current management programs and is considered the baseline to compare other alternatives. Under this alternative, the focus of the Refuge would be to continue to restore and maintain riparian habitat for threatened and endangered species, migratory birds, anadromous and native fish, wildlife, and plants. The Refuge would remain closed to visitor services other than the limited existing opportunity for fishing at Packer Lake. Hunting, camping, wildlife observation and photography would not be allowed and access to the Refuge would be limited. Riparian restoration activities would continue on the eight units (La Barranca, Ohm, Pine Creek, Capay, Phelan Island, Dead Man's Reach, Hartley Island, Drumheller Slough) covered under the Environmental Assessment for Proposed Activities on Sacramento River National Wildlife Refuge (2002). Current funding and staffing levels would remain the same.

Alternative B, the preferred alternative would use active and passive management practices to achieve and maintain full restoration and enhancement of all units on the Refuge (5,855 acres), where appropriate. The agricultural program would be phased out as funding for restoration is obtained and restoration takes place. Public use activities would be optimized to allow for a balance of wildlife-dependant public uses (fishing, hunting, environmental education, interpretation, wildlife observation and photography) throughout the entire Refuge. Eighty-four percent of the Refuge would be open for environmental education, interpretation, wildlife observation and photography. Hunting would be allowed on 55 percent of the Refuge. Twenty-three river miles of seasonally submerged areas would be opened to fishing. Camping would be allowed below the ordinary high water mark on gravel bars. Trails and access to the Refuge would also be improved. Staffing and funding levels would need to increase to implement this alternative.

Alternative C would accelerate habitat restoration and maximize public use. The Refuge would use active and passive management practices to achieve and maintain full restoration and enhancement of all units on the Refuge (5,855 acres), where appropriate, as funding becomes available. The agricultural program would end as funding is obtained, and full restoration efforts take place. Public use activities would allow wildlife-dependant public uses throughout the majority of the Refuge (84 percent). Hunting would be allowed on 73 percent of the Refuge. Twenty-three river miles of seasonally submerged areas would be opened to fishing, and camping would be allowed below the ordinary high water mark on gravel bars. Trails and access to the Refuge would also be improved. Funding and staffing levels would have to increase substantially to implement this alternative.

Features Common to All Alternatives

All three alternatives include a number of features in common. Under each alternative, riparian vegetation on La Barranca, Ohm, Pine Creek, Capay, Phelan Island, Dead Man's Reach, Hartley Island and Drumheller Slough units would be restored and enhanced. These restoration activities are addressed in the Environmental Assessment for Proposed Restoration Activities on the Sacramento River National Wildlife Refuge (2002). Other continuing activities include baseline surveys and monitoring, fire management, law enforcement, and fishing at Packer Lake.

Dated: June 22, 2004.
D. Kenneth McDermond,
Manager, California/Nevada Operations Office, Fish and Wildlife Service.

[FR Doc. 04-14670 Filed 6-28-04; 8:45 am]

BILLING CODE 4310-55-P